FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 018946NF.

Name: AMF Global Transportation, Inc.

Address: 1630 Jarvis Avenue, Elk Grove Village, IL 60007.

Date Revoked: September 21, 2005.

Reason: Failed to maintain valid bonds.

License Number: 016913F.

Name: America's Cargo Logistics, L.L.C.

Address: 50 Carnation Avenue, Floral Park, NY 11001.

Date Revoked: September 3, 2003.

Reason: Surrendered license voluntarily.

License Number: 017466N.

Name: Compass Shipping, Inc.

Address: 525 Empire Blvd., Brooklyn, NY 11225.

Date Revoked: September 21, 2005.

Reason: Failed to maintain a valid bond.

License Number: 019041N.

Name: Grupo Delpa Corp.

Address: 7225 NW 25th Street, Suite 311, Miami, FL 33122.

Date Revoked: September 21, 2005.

Reason: Failed to maintain a valid bond.

License Number: 012190N.

Name: Reliable Overseas Shipping & Trading, Inc.

Address: 239-241 Kingston Avenue, Brooklyn, NY 11213.

Date Revoked: September 21, 2005.

Reason: Failed to maintain a valid bond.

License Number: 003028F

Name: Total Ex-Port of Florida, Inc.

Address: c/o Total Port Clearance Inc., 10 Fifth Street, Valley Stream, NY 11581.

Date Revoked: September 12, 2005.

Reason: Surrendered license voluntarily.

License Number: 015634N.

Name: Trans-America Maritime, Inc.

Address: 8345 NW 74th Street, Miami, FL 33166-2325.

Date Revoked: September 8, 2005.

Reason: Surrendered license voluntarily.

Sandra L. Kusumoto,
Director, Bureau of Certification and Licensing.

[FR Doc. 05-20013 Filed 10-4-05; 8:45 am]

BILLING CODE 6730-01-P